FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding dates shown below:

License Number: 1051F.

Name: Ohanneson Worldwide.

Address: 150 Lombard Street, Suite 4, San Francisco, CA 94111.

Date Revoked: March 17, 2001.

Reason: Failed to maintain a valid bond.

License Number: 11365N.

Name: Seawinds Freight Services, Inc.

Address: 601 Airport Blvd., Unit B, So. San Francisco, CA 94080.

Date Revoked: February 28, 2001.

Reason: Failed to maintain a valid bond.

License Number: 10809N.

Name: Tarnak Inc.

Address: 15 West 39th Street, 5th Floor, New York, NY 10018.

Date Revoked: March 12, 2001.

Reason: Failed to maintain a valid bond.

License Number: 11084N.

Name: Zust Ambrosetti Inc. d/b/a Zust Ambrosetti Italy.

Address: 8901 Tonnelle Avenue, North Bergen, NJ 07047.

Date Revoked: March 2, 2001.

Reason: Failed to maintain a valid bond.

Sandra L. Kusumoto,
Director, Bureau of Consumer Complaints and Licensing.

[FR Doc. 01-8866 Filed 4-10-01; 8:45 am]

BILLING CODE 6730-01-P